DEPARTMENT OF AGRICULTURE

Forest Service

Sitka Resource Advisory Committee

AGENCY: Forest Service, USDA.

ACTION: Notice of meeting.

SUMMARY: The Sitka Resource Advisory Committee will meet in Sitka, Alaska, February 15, 2011. The purpose of this meeting is to discuss potential projects under the Secure Rural Schools and Community Self-Determination Act of 2008.

DATES: The meeting will be held February 15, 2011 at 4 p.m.

ADDRESSES: The meeting will be held at the Harrigan Hall Visitor Center, 330 Harbor Dr., Sitka, Alaska. Send written comments to Sitka Resource Advisory Committee, c/o District Ranger, USDA Forest Service, 204 Siginaka Way, Sitka, AK 99835, or electronically to Lisa Hirsch, RAC Coordinator at lisahirsch@fs.fed.us.

FOR FURTHER INFORMATION CONTACT: Lisa Hirsch, RAC Coordinator Sitka Ranger District, Tongass National Forest, (907) 747-4214.

SUPPLEMENTARY INFORMATION: The meeting is open to the public. Committee discussion is limited to Forest Service staff and Committee members. However, public input opportunity will be provided and individuals will have the opportunity to address the Committee at that time.

Dated: January 10, 2011.
Carol A. Goularte,
District Ranger.

[FR Doc. 2011-893 Filed 1-18-11; 8:45 am]

BILLING CODE 3410-11-M